DEPARTMENT OF HEALTH AND HUMAN SERVICES

Administration for Children and Families

Submission for OMB Review; Comment Request

Title: Head Start Eligibility Verification.

OMB No.: 0970-0374.

Description: The requirements for establishing proof of eligibility for the enrollment of children in Head Start programs are documented in 45 CFR 1305.4 (e). Each child's record must include a signed document by an employee identifying those documents which were reviewed to determine eligibility. Presently there is no uniform document which the employee must sign. This form will be used to facilitate an efficient and accurate determination of childrens' eligibility for Head Start enrollment.

Respondents: Head Start grantees.

Annual Burden Estimates
Instrument | Number of respondents | Number of responses per respondent | Average burden hours per response | Total burden hours
Head Start Eligibility Verification | 1,600 | 750 | 0.08 | 96,000

Estimated Total Annual Burden Hours: 96,000.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: oira_submission@omb.eop.gov, Attn: Desk Officer for the Administration for Children and Families.

Robert Sargis,
Reports Clearance Officer.

[FR Doc. 2012-28138 Filed 11-19-12; 8:45 am]

BILLING CODE 4184-01-P